DEPARTMENT OF THE INTERIOR

Bureau of Land Management

[WY-920-09-1320-EL, WYW154839]

Coal Lease Exploration License, WY; Correction

AGENCY: Bureau of Land Management, Interior.

ACTION: Notice; correction.

SUMMARY: The Bureau of Land Management published a document in the Federal Register on November 7, 2001, concerning a notice of invitation for coal exploration license. The document contained an incorrect land description.

FOR FURTHER INFORMATION CONTACT: Julie Weaver, 307-775-6260.

Correction

In the Federal Register on November 7, 2001, in FR Doc. 01-27914, on page 56336, in the third column, under SUMMARY, in the fifteenth line, “T. 41 N.,” should read “T.44N.”. The correct land description should read:

“T. 44N., R. 71 W., 6th P.M., Wyoming

Sec. 26: Lots 3-6 and 11-14.

Containing 323.69 acres, more or less.”

Dated: November 20, 2001.
Phillip C. Perlewitz,
Chief, Branch of Solid Minerals.

[FR Doc. 01-29430 Filed 11-26-01; 8:45 am]

BILLING CODE 4310-22-M